DEPARTMENT OF HOMELAND SECURITY

Coast Guard

[CGD13-06-034]

Announcement of Public Hearing Regarding the Interstate 5 Bridge Replacement Project Across the Columbia River Between Portland, OR and Vancouver, WA

AGENCY: Coast Guard, DHS.

ACTION: Notice of public hearing.

SUMMARY: The Coast Guard will hold a public hearing to receive comments on the Interstate 5 Bridge Replacement Project, also known as the Columbia River Crossing Project, between Portland, Oregon and Vancouver, Washington. The dual vertical lift highway bridges across the Columbia River, mile 106.5, are being examined as candidates for replacement. Comments regarding impacts that the proposed bridge replacement project may have on navigation of the Columbia River and the environment will be of particular relevance to the Coast Guard's bridge permitting responsibilities.

DATES: This hearing will be held on Thursday, September 21, 2006, from 6 p.m. to 9 p.m., or later if necessary. Attendees at the hearing who wish to present testimony and have not previously made a request to do so, will follow those having submitted a request, as time permits. Written material and requests to make oral comment must be received by the Bridge Administrator at the address given under ADDRESSES on or before September 14, 2006.

ADDRESSES: The hearing will be held at the Red Lion Hotel on the River—Jantzen Beach, 909 North Hayden Drive, Portland, Oregon. The Timberline Room downstairs from the main lobby has been reserved. Send written material and requests to make oral comment to Mr. Austin Pratt, Bridge Administrator, Commander (dpw), Thirteenth Coast Guard District, 915 Second Avenue, Room 3510, Seattle, WA 98174-1067.

Commander (dpw) maintains the public docket and comments and material received from the public will become part of docket [CGD13-06-034] and will be available for inspection or copying at the above address between 8 a.m. and 4:30 p.m., Monday through Friday, except Federal holidays.

FOR FURTHER INFORMATION CONTACT: If you have questions regarding this notice or the proposed project, call Mr. Austin Pratt, Thirteenth Coast Guard District, Bridge Administrator, telephone (206) 220-7282.

SUPPLEMENTARY INFORMATION:

Proposed Action

The Interstate 5 Bridge Replacement Project under consideration will improve the mobility, reliability, and accessibility for automobile, freight, transit, bicycle, and pedestrian users of the Interstate 5 corridor from State Route 500 in Vancouver to Columbia Boulevard in Portland while meeting the reasonable needs of navigation. The existing Interstate 5 dual vertical lift highway bridges currently provide a 40-foot vertical clearance in the closed position. When raised, the lift spans increase the vertical clearance to 178.9 feet. Critical issues include the determination of the vertical clearance in a fixed span alternative as well as pier placement in the river. In addition to current navigational interests, existing conditions potentially impacting navigational clearances include the surrounding land uses, the Burlington Northern-Santa Fe rail line bridge (approximately one mile downstream), and the glide path requirements for Pearson Airpark in Vancouver and Portland International Airport in Portland. While the main focus of the hearing is to allow interested persons to present comments and information concerning the impact of the proposed bridge project on navigation and air space, comments concerning impacts on the human environment may also be presented and will be included in the public record.

The Federal Highway Administration and Federal Transit Administration are the joint lead Federal agencies for satisfying the requirements of Section 102(2) of the National Environmental Policy Act of 1969 (NEPA), and the preparation of a Draft Environmental Impact Statement (DEIS) has commenced. The Coast Guard is a cooperating agency. This replacement bridge project will require a bridge permit from the Coast Guard (33 U.S.C. 525) and environmental review pursuant to NEPA.

Procedural

All interested parties will have an opportunity to be heard and to present evidence regarding the impacts of the proposed bridge project. Written statements and other exhibits in lieu of, or in addition to, oral statements at the hearing must be submitted to the Bridge Administrator at the address listed under ADDRESSES on or before September 14, 2006, to be included in the Public Hearing transcript.

Comments, including names and home addresses, may be published as part of the Final EIS. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Information on Services for Individuals With Disabilities

For information about facilities or services for individuals with disabilities or to request special assistance at the meeting, contact the Commander (dpw), Thirteenth Coast Guard District. Please request these services by contacting the Bridge Administrator at the phone number under FOR FURTHER INFORMATION CONTACT or in writing at the address listed under ADDRESSES. Any requests for an oral or sign language interpreter must be received as soon as possible.

Dated: July 14, 2006.
N.E. Mpras,
Chief, Office of Bridge Administration, U.S. Coast Guard,

[FR Doc. E6-12472 Filed 8-1-06; 8:45 am]

BILLING CODE 4910-15-P